FEDERAL COMMUNICATIONS COMMISSION

Notice of Public Information Collection(s) Being Reviewed by the Federal Communications Commission

July 15, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 30, 2002. If you anticipate that you will be submitting comments, but find it difficult to do so within the period of time allowed by this notice, you should advise the contact listed below as soon as possible.

ADDRESSES: Direct all comments to Les Smith, Federal Communications Commission, Room 1-A804, 445 12th Street, SW, Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0315.

Title: Section 76.1615, Sponsorship Identification.

Form Number: N/A.

Type of Review: Extension of currently approved collection.

Respondents: Business or other for-profit entities.

Number of Respondents: 700.

Estimated Time per Response: 30 minutes.

Frequency of Response: Recordkeeping; On occasion reporting requirements; Third party disclosure.

Total Annual Burden: 350 hours.

Total Annual Costs: $1,400.

Needs and Uses: 47 CFR 76.1615 (formerly Section 76.221(a)(c)) states that when a cable operator engaged in origination cablecasting presents any matter for which valuable consideration is paid, the operator must announce the sponsorship of such matter if the sponsor has not already done so. Section 1615(f) also states that sponsorship announcements are waived with respect to the broadcast of “want ads” sponsored by an individual but the licensee shall maintain a list to be made available for public inspection showing the name, address and telephone number of each advertiser.

OMB Control Number: 3060-0311.

Title: Section 76.54, Significantly viewed signals; method for special showing.

Form Number: N/A.

Type of Review: Extension of currently approved collection.

Respondents: Business or other for-profit entities.

Number of Respondents: 12.

Estimated Time per Response: 15 hours.

Frequency of Response: On occasion reporting requirements; Third party disclosure.

Total Annual Burden: 180 hours.

Total Annual Costs: $0.

Needs and Uses: 47 CFR 76.54 requires that notice of an audience survey that is conducted by an organization for significantly viewed signal purposes is to be served on all licensees or permittees of television broadcast stations within whose predicted Grade B contour the cable community or communities are located, and all other system community units, franchisees, franchise applicants in the cable community or communities, and the franchise authority. This notification shall be made at least 30 days prior to the initial survey period and include the name of the survey organization and describe the survey's procedures. The notifications provide an opportunity for interested parties to file objections to the survey's methodology.

Federal Communications Commission.
Marlene H. Dortch,
Secretary.

[FR Doc. 02-19294 Filed 7-30-02; 8:45 am]

BILLING CODE 6712-10-P